DEPARTMENT OF TRANSPORTATION

Federal Aviation Administration

Intent To Rule on Application 02-13-U-00-ORD To Use the Revenue From a Passenger Facility Charge (PFC) at Chicago O'Hare International Airport, Chicago, Illinois

AGENCY: Federal Aviation Administration (FAA), DOT.

ACTION: Notice of Intent to Rule on application.

SUMMARY: The FAA proposes to rule and invites public comment on the application to use the revenue from a PFC at Chicago O'Hare International Airport under the provisions of the 49 U.S.C. 40117 and Part 158 of the Federal Aviation Regulations (14 CFR Part 158)

DATES: Comments must be received on or before March 4, 2002.

ADDRESSES: Comments on this application may be mailed or delivered in triplicate to the FAA at the following address:

Federal Aviation Administration, Chicago Airports District Office, 2300 East Devon Avenue, Room 320, Des Plaines, IL 60018.

In addition, one copy of any comments submitted to the FAA must be mailed or delivered to Mr. Thomas R. Walker, Commissioner of the City of Chicago Department of Aviation at the following address: Chicago O'Hare International Airport, P.O. Box 66142, Chicago, IL 60666.

Air carriers and foreign air carriers may submit copies of written comments previously provided to the City of Chicago Department of Aviation under section 158.23 of Part 158.

FOR FURTHER INFORMATION CONTACT: Mr. Philip M. Smithmeyer, Manager, Chicago Airports District Office, 2300 East Devon Avenue, Room 320, Des Plaines, IL 60018, (847) 294-7335. The application may be reviewed in person at this same location.

SUPPLEMENTARY INFORMATION: The FAA proposes to rule and invites public comment on the application to use the revenue from a PFC at Chicago O'Hare International Airport under the provisions of the 49 U.S.C. 40117 and Part 158 of the Federal Aviation Regulations (14 CFR Part 158).

On December 26, 2001, the FAA determined that the application to use the revenue from a PFC submitted by the City of Chicago Department of Aviation was substantially complete within the requirements of § 158.25 of Part 158. The FAA will approve or disapprove the application, in whole or in part, no later than April 4, 2002.

The following is a brief overview of the application.

Actual charge effective date: May 1, 2008.

Revised estimated charge expiration date: October 1, 2016.

Level of proposed PFC: $4.50.

Total estimated PFC revenue: $53,000,000.

Brief description of proposed project: Construct Touhy Avenue Reservoir, a 700 acre-feet stormwater reservoir on airport property directly north of Touhy Avenue and west of Mount Prospect Road.

Class or classes of air carriers which the public agency has requested not be required to collect PFCs: Air taxi operators.

Any person may inspect the application in person at the FAA office listed above under FOR FURTHER INFORMATION CONTACT.

In addition, any person may, upon request, inspect the application, notice and other documents germane to the application in person at the City of Chicago Department of Aviation.

Issued in Des Plaines, Illinois on January 18, 2002.
Mark A. McClardy,
Acting Manager, Planning/Programming Branch, Airports Division, Great Lakes Region.

[FR Doc. 02-2281 Filed 1-30-02; 8:45 am]

BILLING CODE 4910-13-M